DEPARTMENT OF COMMERCE

National Oceanic and Atmospheric Administration

[I.D. 060502B]

Endangered and Threatened Species; Take of Anadromous Fish

AGENCY: National Marine Fisheries Service (NMFS), National Oceanic and Atmospheric Administration (NOAA), Commerce.

ACTION: Receipt of applications for scientific research permits (1381, 1382, and 1383) and receipt of applications to modify permits (1140, 1156, 1309, 1317, 1322, and 1370).

SUMMARY: NMFS has received three new permit applications and six applications to modify existing scientific research permits related to Pacific salmon and steelhead. The proposed research is intended to increase knowledge of the listed species and to help guide management and conservation efforts.

DATES: Comments or requests for a public hearing on any of the new applications or modification requests must be received at the appropriate address or fax number (see ADDRESSES) no later than 5 p.m. Pacific daylight savings time on July 11, 2002.

ADDRESSES: Written comments on any of the new applications or modification requests should be sent to Protected Resources Division, F/NWO3, 525 NE Oregon Street, Suite 500, Portland, OR 97232-2737 (503-230-5400). Comments may also be sent via fax to 503-230-5435. Comments will not be accepted if submitted via e-mail or the internet.

FOR FURTHER INFORMATION CONTACT: Steve Stone, Portland, OR (ph: 503-231-2317, Fax: 503-230-5435, e-mail: steve.stone@noaa.gov)

SUPPLEMENTARY INFORMATION:

Species Covered in this Notice

The following ESA-listed species and evolutionary significant units (ESUs) are covered in this notice:

Chinook salmon (Oncorhynchus tshawytscha): threatened Puget Sound (PS); threatened Snake River (SnR) spring/summer and fall; endangered Upper Columbia River (UCR), threatened Lower Columbia River (LCR).

Coho salmon (O. kisutch): threatened Southern OR/Northern CA Coasts (SONCC), and threatened OR Coast (OC).

Sockeye (O. nerka): endangered SnR.

Chum (O. keta): threatened Columbia River (CR).

Steelhead (O. mykiss): endangered Upper Columbia River spring-run (UCR), threatened Middle Columbia River (MCR), threatened LCR, threatened SnR.

Authority

Scientific research and/or enhancement permits are issued under Section 10(a)(1)(A) of the Endangered Species Act of 1973 (ESA) (16 U.S.C. 1531 et. seq). Issuance of permits and permit modifications, as required by the ESA, is based on a finding that such permit/modifications: (1) are applied for in good faith; (2) if granted and exercised, would not operate to the disadvantage of the listed species that are the subject of the permit; and (3) are consistent with the purposes and policy of section 2 of the ESA. Authority to take listed species is subject to conditions set forth in the permits. Permits and modifications are issued in accordance with and are subject to the ESA and NMFS regulations governing listed fish and wildlife permits (50 CFR Parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

New Applications Received

Permit 1381

The City of Bellingham requests a 2-year permit for annual takes of juvenile, threatened, naturally produced and artificially propagated PS chinook salmon associated with research to be conducted in the Whatcom Creek estuary. The purpose of the study is to determine a baseline usage of the project area by juvenile salmonids in order to monitor the effectiveness of integrated cleanup and habitat restoration plans implemented on the Holly Street Landfill. The City proposes to capture (using beach seines), anesthetize, handle, measure, and release up to 10 juvenile, naturally produced and 13 juvenile, artificially propagated PS chinook salmon. In addition, the City of Bellingham is requesting indirect mortality of up to one juvenile, naturally produced and one juvenile, artificially propagated PS chinook salmon as a result of the study.

Permit 1382

The Utah State University in Logan, UT (USU) requests a 3-year scientific research permit for annual takes of juvenile, threatened, MCR steelhead associated with a scientific research project proposed to occur in the Walla Walla River Subbasin in Washington and Oregon. The objective of the research is to assess the population densities and life-history characteristics of steelhead and bull trout (Salvelinus confluentus) in association with habitat quality and land use in the subbasin. Information collected from the research will be used in recovery planning and will provide a template for research, monitoring, and evaluation programs for steelhead and bull trout populations throughout the Walla Walla River Subbasin as well as other subbasins. Adult and juvenile, threatened, MCR steelhead are proposed to be observed/harassed during snorkel surveys. In addition, up to 10 MCR steelhead adults and up to 600 MCR steelhead juveniles are proposed to be captured, handled, and released using backpack electrofishing, seining, angling, and screw traps. Up to 3 percent of the ESA-listed juvenile steelhead handled may be indirectly killed.

Permit 1383

The U.S. Geological Survey in Cook, WA (USGS) requests a 3-year permit for annual takes of juvenile and adult, threatened, LCR chinook salmon; threatened, MCR steelhead; threatened, LCR steelhead; and threatened, CR chum salmon associated with research to be conducted in selected watersheds between Bonneville Dam and The Dalles Dam. The objectives of the study are to (1) determine abundance, distribution, and life history patterns of anadromous and resident fishes, (2) identify populations and determine the status of steelhead and cutthroat trout (O. clarki), (3) restore and recover salmonid habitat, and (4) assess sympatric relationships between listed species and cutthroat trout. The USGS proposes to observe/harass juvenile and adult chinook salmon and steelhead and capture (using electrofishing and angling equipment, seines, and minnow traps), anesthetize, handle, measure, and release up to 2400 juvenile LCR steelhead, 2050 juvenile MCR steelhead, 20 CR chum salmon, and 2225 juvenile LCR chinook salmon. In addition, the USGS is requesting indirect mortality of up to one juvenile CR chum salmon as a result of the study. Up to 5 percent of the LCR chinook salmon, MCR steelhead, and LCR steelhead handled may be indirectly and/or directly killed and provided to the U.S. Fish and Wildlife Services’s Lower Columbia River Fish Health Center to gain information on diseases in wild fish as part of the National Wild Fish Health Survey.

Modification Requests Received

Permit 1140-modification 3

The Northwest Fisheries Science Center in Seattle, WA (NWFSC) requests an amendment (modification 3) to its permit for increased annual takes of juvenile, threatened, naturally produced and artificially propagated, PS chinook salmon associated with study 2 and a new study (study 3) to be conducted in Commencement Bay, Washington. The NWFSC is currently authorized under permit 1140 to annually take: threatened, juvenile, naturally produced and artificially propagated, PS chinook salmon; naturally produced and artificially propagated, SnR spring/summer chinook salmon; naturally produced and artificially propagated, UCR steelhead; SnR fall chinook salmon; UCR spring chinook salmon; SONCC coho salmon; and SnR sockeye salmon.

Study 1. This study is designed to assess the relationship between environmental variables, selected anthropogenic stressors, and bacterial and parasitic pathogens on disease-induced mortality of juvenile salmon in selected coastal estuaries in Oregon and Washington. The study will provide a better understanding of how environmental factors influence disease transmission.

Study 2. This study evaluates the effects of shoreline development on nearshore fish and submerged aquatic plant assemblages. The NWFSC coordinates their work with the University of Washington who is studying the effects of shoreline development on supralittoral ecology. The study focuses on changes in diet and available prey resources for several fish species. The NWFSC is requesting an extension to this study. The pilot study will evaluate the efficacy of several sampling methods and approaches that are effective for sampling different habitat types. The results of the pilot study will aid in designing statistically based studies to compare abundance, residence time, habitat use, diet, and behavior of juvenile salmon along the City of Seattle’s shorelines. These investigations will help resource managers identify potential impacts of nearshore activities on ESA-listed fish, prioritize recovery actions, and identify approaches that provide maximum protection to listed fish habitat. The NWFSC proposes to harass (using snorkel surveys and video cameras), capture, anesthetize, handle (examine stomach contents using non-lethal evacuation), and release up to 92 juvenile, naturally produced and five artificially propagated PS chinook salmon in addition to their current take. In addition, the NWFSC is requesting indirect mortality of up to four juvenile, naturally produced and one juvenile, artificially propagated PS chinook salmon as a result of the study.

Study 3. The NWFSC proposes to monitor several sites in Commencement Bay for fish assemblage, habitat utilization, chemical contamination, and fish pathology information to evaluate the success of restoration activities. The NWFSC proposes to capture (using beach seines and trap/fyke nets), handle, and release up to 227 juvenile, naturally produced and 12 juvenile, artificially propagated PS chinook salmon in addition to their current take. The NWFSC also proposed to examine stomach contents using non-lethal evacuation. In addition, the NWFSC is requesting indirect mortality of up to 13 juvenile, naturally produced and one juvenile, artificially propagated PS chinook salmon as a result of the study.

Permit 1156-modification 2

The U.S. Environmental Protection Agency in Corvallis, OR (EPA) requests a modification to permit 1156 for annual takes of adult and juvenile, threatened, OC and SONCC coho salmon associated with research designed to assess status and trends of surface waters in the Pacific Northwest in a statistically and ecologically rigorous manner as mandated by the Clean Water Act (CWA). The research is designed to collect data used to enforce the CWA which will increase the recovery potential of ESA-listed species in various rivers in the Pacific Northwest. The research will benefit ESA-listed fish by providing baseline information to support enforcement of the CWA in freshwater river systems where ESA-listed fish may be present. Dynamac Corporation is a cooperator with the scientific research and its biologists are authorized to act as agents of EPA in conducting the research. EPA/Dynamac proposes to capture (using backpack or raft-mounted electrofishing), examine, and release up to 10 juvenile and two adult SONCC coho and five juvenile and two adult OC coho salmon. Adult OC coho salmon would be shocked but not netted during the activities. EPA/Dynamac requests indirect mortality of up to one juvenile OC coho salmon and one juvenile SONCC coho salmon as a result of the research. The EPA has also requested that the USGS, Biological Resources Division, be allowed to act as an agent under the permit.

Permit 1309-modification 1

The King County Department of Natural Resources in Seattle, WA (KCDNR) requests an amendment to permit 1309 for a project modification and increased annual takes of juvenile, threatened, artificially propagated, PS chinook salmon associated with study 1. The KCDNR is currently authorized annual takes of threatened juvenile, naturally produced and artificially propagated PS chinook salmon under three studies. The purpose of study 1 is to determine the presence of PS chinook salmon, improve understanding of juvenile salmon distribution, and to study their use of nearshore habitat in King County’s lakes, streams, and marine nearshore habitat. The research will help determine the effectiveness of County programs at protecting and restoring habitat for PS chinook salmon. Study 1 consists of the following subtasks: (1) Agricultural watercourse monitoring, (2) the Cedar River restoration site monitoring, and (3) nearshore studies. The KCDNR is requesting authorization to capture ESA-listed fish using backpack electrofishing equipment. The KCDNR also proposes to examine the stomach contents (using non-lethal evacuation) from a subsample of PS chinook salmon captured under their current take authorization. In addition, the KCDNR requests authorization to lethally take up to 10 juvenile, artificially propagated PS chinook salmon to collect coded wire tags.

Permit 1317-modification 1

On April 12, 2002, a notice was published in the Federal Register (67 FR 17970) that NMFS received an application from the USGS for modification 1 to scientific research permit 1317. NMFS has received an amendment to that application from the USGS requesting (1) annual takes (capture, handle, and release) of adult, threatened, MCR steelhead associated with the research, and (2) an additional task involving the non-lethal collection of gill tissue from juvenile, threatened, MCR steelhead to determine gill ATPase activity in steelhead smolts migrating through the wetland units at the Toppenish National Wildlife Refuge in WA.

Permit 1322-modification 1

On April 12, 2002, a notice was published in the Federal Register (67 FR 17970) that NMFS received an application from NWFSC for modification 1 to scientific research permit 1322. research. NMFS has received an amendment to that application from NWFSC requesting annual lethal takes (tissue, stomach content, scale, and otolith samples) of 400 juvenile CR chum salmon for genetic and pathogenic examination. This information will help (1) provide a better understanding of how environmental factors influence disease transmission, (2) determine the role of disease as a factor affecting survival of juvenile salmonids, and (3) track juvenile salmon migration and early life history.

On April 12, 2002, a notice was published in the Federal Register (67 FR 17970) that NMFS received an application from USU for a 1-year permit that would authorize takes of adult and juvenile, threatened, SnR spring/summer chinook salmon and adult and juvenile, threatened, SnR steelhead for the purpose of scientific research. NMFS has received an amendment to that application from USU requesting additional takes of ESA-listed SnR salmon and steelhead adults and juveniles associated with an additional 3-year study proposed to be conducted in the Imnaha River Subbasin in Oregon. The objective of the research is to assess the population densities and life history characteristics of steelhead and bull trout in association with habitat quality and land use in the subbasin. Information collected from the research will be used in recovery planning and will provide a template for research, monitoring, and evaluation programs for steelhead and bull trout populations throughout the Imnaha River Subbasin as well as other watersheds. Adult and juvenile, threatened, naturally produced and artificially propagated, SnR spring/summer chinook salmon and adult and juvenile, threatened, SnR steelhead are proposed to be observed/harassed during snorkel surveys. In addition, up to 20 adult, threatened, SnR spring/summer chinook salmon; up to 1300 juvenile, threatened, naturally produced, SnR spring/summer chinook salmon; up to 150 juvenile, threatened, artificially propagated, SnR spring/summer chinook salmon; up to 15 adult, threatened, SnR steelhead; and up to 600 juvenile, threatened, SnR steelhead are proposed to be captured, handled, and released using backpack electrofishing, seining, angling, and screw traps. Up to 3 percent of the ESA-listed juvenile salmon and steelhead handled may be indirectly killed.

Permit 1370-modification 1

Dated: June 6, 2002.
Margaret Lorenz,
Acting Chief, Endangered Species Division, Office of Protected Resources, National Marine Fisheries Service.

[FR Doc. 02-14669 Filed 6-10-02; 8:45 am]

BILLING CODE 3510-22-S